DEPARTMENT OF EDUCATION

[Docket ID: ED-2025-OPE-1009]

Request for Information; Updates to the Accreditation Handbook

AGENCY: Office of Postsecondary Education, Department of Education.

ACTION: Request for information.

SUMMARY: The U.S. Department of Education (Department) is issuing this request for information (RFI) to receive specific feedback on necessary updates to the Accreditation Handbook. Similar to the update to the Accreditation Handbook undertaken in 2019, the Department seeks to improve this important handbook to communicate clear and concise information to users so that the process for the Department's recognition of an accrediting agency is transparent, efficient, and not unduly burdensome. This RFI may also inform the Department's potential reforms to the accreditation regulatory process and may be complimentary to the public comments already received under the Department's call for Public Feedback for the Development of Proposed Regulations and Establish Negotiated Rulemaking Committee published on April 4, 2025. Information relating to this RFI or the Accreditation Handbook may also be discussed at future Negotiated Rulemakings held by the Department over the next year.

DATES: Comments must be received on or before January 26, 2026.

ADDRESSES: Comments must be submitted via the Federal eRulemaking Portal at www.regulations.gov. However, if you require an accommodation or cannot otherwise submit your comments via regulations.gov, please contact the program contact listed below under FOR FURTHER INFORMATION CONTACT. The Department will not accept comments by fax or by email, or comments submitted after the comment period closes. To ensure that the Department does not receive duplicate copies, please submit your comments only once. Additionally, please include the Docket ID at the top of the comments.

The Department strongly encourages you to submit any comments or attachments in Microsoft Word format. If you must submit a comment in Adobe Portable Document Format (PDF), the Department strongly encourages you to convert the PDF to “print-to-PDF” format, or to use some other commonly used searchable text format. Please do not submit the PDF in a scanned format. Using a print-to-PDF format allows the Department to electronically search and copy certain portions of your submissions to assist in improving the Accreditation Handbook.

Federal eRulemaking Portal: Please go to regulations.gov to submit your comments electronically. Information on using regulations.gov, including instructions for finding a rule on the site and submitting comments, is available on the site under “FAQ.”

Privacy Note: The Department's policy is to generally make comments received from members of the public available for public viewing on the Federal eRulemaking Portal at regulations.gov. Therefore, commenters should include in their comments only information about themselves that they wish to make publicly available. Commenters should not include in their comments any information that identifies other individuals or that permits readers to identify other individuals. The Department may not make comments that contain personally identifiable information (PII) about someone other than the commenter publicly available on regulations.gov for privacy reasons. This may include comments where the commenter refers to a third-party individual without using their name if the Department determines that the comment provides enough detail that could allow one or more readers to link the information to the third party. If your comment refers to a third-party individual, to help ensure that your comment is posted, please consider submitting your comment anonymously to reduce the chance that information in your comment about a third party could be linked to the third party. The Department will also not make comments that contain threats of harm to another person or to oneself available on regulations.gov.

Accessible Format: Individuals with disabilities can obtain this document in an accessible format (e.g., braille, large print, audiotape, or compact disc) on request to the program contact person listed under FOR FURTHER INFORMATION CONTACT.

FOR FURTHER INFORMATION CONTACT: Elizabeth Daggett, Office of Postsecondary Education, U.S. Department of Education, 400 Maryland Avenue SW, Washington, DC 20202. Email: elizabeth.daggett@ed.gov.

If you use a telecommunications device for the deaf (TDD) or a text telephone (TTY), call the Federal Relay Service (FRS), toll free, at 1-800-877-8339.

SUPPLEMENTARY INFORMATION:

Background

The Higher Education Act of 1965 (HEA), as amended, directs the U.S. Department of Education (Department) to determine if an accrediting agency or association is a reliable authority as to the quality of education or training for the purposes of eligibility for title IV, HEA programs or other Federal purposes. The HEA and its implementing regulations further outline criteria an accrediting agency must meet to be recognized by the Department. These include having standards to assess an institution's success with respect to student achievement and other activities, as well as having established procedures to review, evaluate, and withdraw accreditation from an institution or program. This recognition process should ideally ensure that Federal student aid funding, backed by taxpayers, is directed only to institutions or programs that provide a high-quality, high-value postsecondary education. An accrediting agency's oversight and assessment of educational quality are critical components of the program integrity triad, alongside State authorization and institutional certification at the Federal level.

The Department maintains an Accreditation Handbook (“Handbook”) (https://www.ed.gov/sites/ed/files/admins/finaid/accred/accreditation-handbook.pdf) to clarify requirements to receive and maintain Department recognition as an accrediting agency or association. The Handbook contains information about the Secretary's Criteria for Recognition and submission information, lists the regulatory requirements, and provides direction as to how an accrediting agency may demonstrate compliance with the requirements of a application for recognition (“petition”) and file review. The Handbook does not supersede applicable law or regulations; rather, it is intended to be a useful resource to describe in plain terms how to meet the Secretary's Criteria for Recognition and submit a successful petition to the Department.

Purpose of This Request for Information

As directed by President Trump in Executive Order 14279, Reforming Accreditation to Strengthen Higher Education (April 23, 2025), the Department intends to update the Handbook to ensure that the accrediting agency recognition process is transparent, efficient, and not unduly burdensome. By updating the Handbook, the Department intends to aid reform of the accreditation process in an effort to realign accreditation with evaluating whether an institution provides a high-quality, high-value education for all students. The Executive Order signifies a historic commitment to reforming all aspects of the accreditation process and reduce unnecessary regulatory burdens associated with it. This includes the Department's renewed commitment to undertaking a critical review of the recognition process for both initial and renewing accrediting agencies and improving transparency in the Department's related resources. As such, the Department invites feedback and specific language suggestions on how the Handbook should be updated.

The Department has already implemented certain policy changes and actions it was directed to undertake in Executive Order 14279, including lifting the temporary pause on accepting and reviewing new applications for initial recognition from new accrediting agencies and associations on May 2, 2025. The Department intends to update the Handbook to reflect the resumption of these activities and thoroughly review its existing practices to address any other revisions that may be necessary due to policy position changes.

The Department believes this RFI is a critical next step to gather input on how to reform the accreditation system to improve student outcomes, and this may accompany other actions to implement Executive Order 14279. To that end, the Department particularly invites commenters to consider the following questions:

• What policies or practices should be updated in the current version of the Handbook from February 2022? Are there particular pain points that the Department should be aware of? What policies or standards are encouraging innovation or reducing college costs within the postsecondary education sector and should be retained?

• Are there any inaccuracies, inconsistencies or inclusions within the Handbook that are counter to the regulations contained in 34 CFR 602? Additionally, are there any items within the law or regulations that need further explanation?

• What policies or practices could be clearer? Do interested parties have suggestions on the process by which we update the Handbook in the event Federal regulations are further revised in future rulemakings? In what specific formats would stakeholders prefer to see clarifying information or updates, whether that be via an Electronic Announcement, in a Dear Colleague Letter, or regulations?

• Is the Handbook serving its intended purpose? How can it better assist accrediting agencies and associations in evaluating the quality of educational institutions and programs or in applying for Federal recognition?

• What might be an alternative solution to offer guiding advice to accrediting agencies and associations outside of the Handbook? How can the Handbook be designed to be less burdensome?

• How could accreditation standards be updated to incentivize intellectual diversity on campus? What guidance or standards, if any, can the Handbook provide to institutions and programs to help achieve this goal?

• Keeping in mind that the Department intends to take further action on this subject matter, what would stakeholders suggest as methods to determine appropriate assessment benchmarks, and what data sources or validation methods could be used to ensure those benchmarks reflect student competency? If new assessment methods are developed, how should the Department evaluate the feasibility and administrative burden associated with developing or administering new assessments? How do stakeholders suggest that the Department present these benchmarks in updated guidance materials?

Commenters may also consider providing comment on the totality of the accreditation process and comment on specific proposals contained within Executive Order 14279, or other innovative ideas related to accreditation. For example, Executive Order 14279 outlines new principles of a student-oriented accreditation system, and information on how these principles may be reflected in an updated Handbook could be useful. The Department also welcomes feedback on any other provisions contained within Executive Order 14279, including how to evaluate credential inflation. This feedback may pertain either to the standards contained in regulations, and how these might be modified by rulemaking, or the Handbook, and whether commenters believe the guidance contained therein incentivizes or encourages credential inflation at institutions.

While feedback received during the previous public comment period on Title IV topics will be used to update the Handbook, the Department believes this RFI is an opportunity for commenters to focus on any specific and additional changes to the Handbook that may be necessary to improve the clarity and ease of use of the Handbook.

The Department also encourages commenters to consider the totality of the Handbook, and its overall usefulness. We invite commenters to propose bold new ideas on how this resource can better help accrediting agencies ultimately validate the highest quality in postsecondary education. Resources like the Handbook should provide clear and concise information on how to comply with the HEA and its implementing regulations but should not include additional compliance requirements or set new policy. Regularly updating the Handbook is crucial for ensuring that the guidance provided to accrediting agencies remain relevant and effective. Overall, an effective Handbook should minimize the number of questions the Department receives from stakeholders, streamline the recognition process for both initial and renewing accrediting agencies, and aid in maintaining the integrity of the accreditation process.

This is an RFI only. This RFI is not a Request for Proposal (RFP) or a promise to publish a revised Handbook in a specific timeline. This RFI does not commit any Department office to contract for any supply or service. We are not seeking contract proposals. The Department will not pay for any information or administrative costs that you may incur in responding to this RFI. The documents and information submitted in response to this RFI become the property of the U.S. Government and will not be returned.

Electronic Access to This Document: The official version of this document is the document published in the Federal Register. You may access the official edition of the Federal Register and the Code of Federal Regulations at govinfo.gov. At this site you can view this document, as well as all other documents ED published in the Federal Register, in text or Portable Document Format (PDF). To use PDF, you must have Adobe Acrobat Reader, which is available free at the site.

You may also access documents the Department published in the Federal Register by using the article search feature at federalregister.gov. Specifically, through the advanced search feature at this site, you can limit your search to documents published by ED.

David Barker,
Assistant Secretary, Office of Postsecondary Education, U.S. Department of Education.

[FR Doc. 2025-22555 Filed 12-10-25; 8:45 am]

BILLING CODE 4000-01-P